DEPARTMENT OF HEALTH AND HUMAN SERVICES

National Institutes of Health

National Institute on Aging; Amended Notice of Meeting

Notice is hereby given of a change in the meeting of the National Institute on Aging Special Emphasis Panel, September 20, 2017, 12:00 p.m. to September 20, 2017, 1:00 p.m., National Institute on Aging, Gateway, 7201 Wisconsin Ave., Suite 2W200C, Bethesda, MD 20892 which was published in the Federal Register on August 22, 2017, 82 FR 39876.

The meeting notice is amended to change the date of the meeting from September 20, 2017 to October 17, 2017. The meeting is closed to the public.

Dated: September 18, 2017.
Melanie J. Pantoja,
Program Analyst, Office of Federal Advisory Committee Policy.

[FR Doc. 2017-20231 Filed 9-21-17; 8:45 am]

BILLING CODE 4140-01-P